DEPARTMENT OF TRANSPORTATION

Federal Aviation Administration

14 CFR Part 39

[Docket No. FAA-2004-18573; Directorate Identifier 2003-NM-71-AD]

RIN 2120-AA64

Airworthiness Directives; McDonnell Douglas Model MD-11 Airplanes

AGENCY: Federal Aviation Administration (FAA), DOT.

ACTION: Notice of proposed rulemaking (NPRM).

SUMMARY: The FAA proposes to adopt a new airworthiness directive (AD) for certain McDonnell Douglas Model MD-11 airplanes. This proposed AD would require revising the cable connection stackups for mid-cabin terminal strips, replacing the terminal strips, and removing a nameplate, as applicable. This proposed AD also would require an inspection for arcing damage in the mid-cabin area, and corrective actions if necessary. This proposed AD is prompted by an incident in which arcing occurred between the power feeder cables and support bracket of the terminal strips. We are proposing this AD to prevent arcing damage to the terminal strips and damage to the adjacent structure, which could result in smoke and/or fire in the mid-cabin compartment.

DATES: We must receive comments on this proposed AD by August 27, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: room PL-401 on the plaza level of the Nassif Building, 400 Seventh Street SW., Washington, DC, between 9 a.m. and 5 p.m., Monday through Friday, except Federal holidays.

You can get the service information identified in this proposed AD from Boeing Commercial Airplanes, Long Beach Division, 3855 Lakewood Boulevard, Long Beach, California 90846, Attention: Data and Service Management, Dept. C1-L5A (D800-0024).

You may examine the contents of this AD docket on the Internet at http://dms.dot.gov, or at the Docket Management Facility, U.S. Department of Transportation, 400 Seventh Street SW., room PL-401, on the plaza level of the Nassif Building, Washington, DC.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18573; Directorate Identifier 2003-NM-71-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that website, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You may examine the AD docket in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

As part of our practice of re-examining all aspects of the service experience of a particular aircraft whenever an accident occurs, we have become aware of an incident in which arcing occurred between the power feeder cables and support bracket of the terminal strips on a McDonnell Douglas Model MD-11 airplane. Investigation revealed that inadequate clearance exists between the terminal strips and associated support brackets in the center and aft cargo compartments. This condition, if not corrected, could result in arcing damage to the terminal strips and damage to the adjacent structure, which could result in smoke and/or fire in the mid-cabin compartment.

Other Related Rulemaking

In conjunction with Boeing and operators of Model MD-11 airplanes, we have reviewed all aspects of the service history of those airplanes to identify potential unsafe conditions and to take appropriate corrective actions. This proposed AD is one of a series of corrective actions identified during that process. We have previously issued several other ADs and may consider further rulemaking actions to address the remaining identified unsafe conditions.

Relevant Service Information

We have reviewed McDonnell Douglas Alert Service Bulletin MD11-24A176, dated May 27, 2003. The service bulletin describes procedures for revising the cable connection stackups for mid-cabin terminal strips, replacing the terminal strips, and removing a nameplate, as applicable. The service bulletin also describes procedures for inspecting for arcing damage in the mid-cabin area, and corrective actions if damage is found. Corrective actions include repair of the damaged part or replacement with a new part. We have determined that accomplishment of the actions specified in the service bulletin will adequately address the unsafe condition.

FAA's Determination and Requirements of the Proposed AD

We have evaluated all pertinent information and identified an unsafe condition that is likely to exist or develop on other airplanes of this same type design. Therefore, we are proposing this AD, which would require accomplishment of the actions specified in the service bulletin described previously, except as discussed under “Differences Between the Proposed AD and Service Bulletin.”

Differences Between the Proposed AD and Service Bulletin

Operators should note that the service bulletin specifies to repair damaged structure in accordance with the Structural Repair Manual (SRM). However, the SRM does not provide procedures for repair of certain structural material. Therefore, this proposed AD would require the repair of damaged structure that is not covered in the SRM to be done in accordance with a method approved by the FAA.

Although McDonnell Douglas Alert Service Bulletin MD11-24A176, dated May 27, 2003, including paragraph 4, “Appendix,” and Evaluation Form, specifies to submit information to the manufacturer, this proposed AD does not include that requirement.

Costs of Compliance

This proposed AD would affect about 23 airplanes of U.S. registry and 90 airplanes worldwide. The proposed actions would take between 5 and 6 work hours per airplane, depending on the airplane configuration, at an average labor rate of $65 per work hour. Required parts would cost between $673 and $975 depending on the airplane configuration. The airplane configuration group requiring the fewest number of work hours requires parts that cost approximately $710. Based on these figures, the estimated cost of the proposed AD for U.S. operators is between $1,035 and $1,365 per airplane depending on the airplane configuration.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2004-18573; Directorate Identifier 2003-NM-71-AD.

Comments Due Date

(a) The Federal Aviation Administration (FAA) must receive comments on this AD action by August 27, 2004.

Affected ADs

(b) None.

Applicability

(c) This AD applies to McDonnell Douglas Model MD-11 series airplanes, as listed in paragraph 1.A.1. of McDonnell Douglas Alert Service Bulletin MD11-24A176, dated May 27, 2003; certificated in any category.

Unsafe Condition

(d) This AD was prompted by an incident in which arcing occurred between the power feeder cables and support bracket of the terminal strips. We are issuing this AD to prevent arcing damage to the terminal strips and damage to the adjacent structure, which could result in smoke and/or fire in the mid-cabin compartment.

Compliance

(e) You are responsible for having the actions required by this AD performed within the compliance times specified, unless the actions have already been done.

Revise Wire Connection Stackups; Remove Nameplate, as Applicable; and Inspect for Damage

(f) Within 18 months after the effective date of this AD, do the actions specified in (f)(1) and (f)(2) of this AD in accordance with the Accomplishment Instructions of McDonnell Douglas Alert Service Bulletin MD11-24A176, dated May 27, 2003. Although the service bulletin specifies to submit information to the manufacturer in paragraph 4, “Appendix,” this AD does not include that requirement.

(1) Revise the wire connection stackups, replace the terminal strips for the power feeder cables, and remove nameplates, as applicable, at the affected mid-cabin locations.

(2) Do a general visual inspection to detect arcing damage of the surrounding structure, adjacent system component, and electrical cables in the mid-cabin area.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Corrective Action If Necessary

(g) If any damage is detected during the inspection required by paragraph (f) of this AD, before further flight, repair damage or replace the damaged part with a new part, in accordance with the Accomplishment Instructions of McDonnell Douglas Alert Service Bulletin MD11-24A176, dated May 27, 2003. If the type of structural material that has been damaged is not covered in the Structural Repair Manual, before further flight, repair in accordance with a method approved by the Manager, Los Angeles Aircraft Certification Office (ACO), FAA.

Alternative Methods of Compliance (AMOCs)

(h) The Manager, Los Angeles ACO, FAA, has the authority to approve AMOCs for this AD, if requested using the procedures found in 14 CFR 39.19.

Issued in Renton, Washington, on June 30, 2004.
Kalene C. Yanamura,
Acting Manager, Transport Airplane Directorate, Aircraft Certification Service.

[FR Doc. 04-15762 Filed 7-12-04; 8:45 am]

BILLING CODE 4910-13-P